DEPARTMENT OF THE TREASURY

Office of Foreign Assets Control

Identification of Nine Entities Pursuant to Executive Order 13566 and Amendment of General License No. 1A

AGENCY: Office of Foreign Assets Control, Treasury.

ACTION: Notice.

SUMMARY: The Treasury Department's Office of Foreign Assets Control (“OFAC”) is publishing the names of nine entities identified on June 21, 2011, as persons whose property and interests in property are blocked pursuant to Section 2 of Executive Order 13566 of February 25, 2011, “Blocking Property and Prohibiting Certain Transactions Related to Libya.” OFAC also is amending General License No. 1A to exclude Arab Turkish Bank, North Africa International Bank, and North Africa Commercial Bank from the authorization set forth therein.

DATES: The identification by the Director of OFAC of the nine entities identified in this notice, pursuant to Executive Order 13566 of February 25, 2011, and the exclusion of Arab Turkish Bank, North Africa International Bank, and North Africa Commercial Bank from General License No. 1A, are effective June 21, 2011.

FOR FURTHER INFORMATION CONTACT: Assistant Director for Sanctions Compliance and Evaluation, tel.: 202-622-2490, Assistant Director for Licensing, tel: 202-622-2480, Assistant Director for Policy, tel: 202/622-4855, or Chief Counsel (Foreign Assets Control), tel: 202-622-2410 (not toll free numbers).

SUPPLEMENTARY INFORMATION:

Electronic and Facsimile Availability

This document and additional information concerning OFAC are available from OFAC's Web site (http://www.treasury.gov/ofac) or via facsimile through a 24-hour fax-on-demand service, Tel.: 202/622-0077.

Background

On February 25, 2011, the President issued Executive Order 13566, “Blocking Property and Prohibiting Certain Transactions Related to Libya” (the “Order”), pursuant to, inter alia, the International Emergency Economic Powers Act (50 U.S.C. 1701-06).

Section 2 of the Order blocks all property and interests in property that are in the United States, that come within the United States, or that are or come within the possession or control of any United States person, including any overseas branch, of the Government of Libya, its agencies, instrumentalities, and controlled entities, and the Central Bank of Libya.

On March 4, 2011, OFAC published General License No. 1A on its Web site, which authorized all transactions involving banks that are owned or controlled by the Government of Libya and organized under the laws of a country other than Libya, provided that the transactions do not otherwise involve the Government of Libya or any person whose property and interests in property are blocked. On June 21, 2011, OFAC revoked General License No. 1A and replaced it with General License No. 1B. The authorization in General License No. 1B is identical to the authorization that was contained in General License No. 1A, except that it specifically excludes Arab Turkish Bank, North Africa International Bank, and North Africa Commercial Bank from its scope.

Also on June 21, 2011, the Director of OFAC identified, pursuant to Section 2 of the Order, nine entities whose property and interests in property are blocked. The listing for these entities is as follows:

Entities

1. ARAB TURKISH BANK (a.k.a. A AND T BANK; a.k.a. ARAB-TURKISH BANK; a.k.a. ARAP TURK BANKASI), Valikonagi Cad. No: 10, Nisantasi 34367, Istanbul, Turkey; P.O. Box: 150, Sisli 34360, Istanbul, Turkey; Havuzlu Sok. No: 3, 06540 Asagi Ayranci, Ankara, Turkey; P.O. Box 38-06552, Canakaya, Ankara, Turkey; Derya Sol., Sisilkler Plaza, D Blok No: 14/1, Sahrayi Credit, Kadikoy, Istanbul, Turkey; Musalla Baglari Mah., Ahmet Milmi Nalcaci Cad., 1-Evkur Ishani No: 112/B-C, 42060 Selecuklu, Konya, Turkey; Cumhuriyet Mah., Vatan Cad. No: 22, 38040 Melikgazi, Kayseri, Turkey; Incilipinar Mah., Kibris Cad., Zeugma Is Merkezi, No: 13-14, 27090 Sehitkamil, Gaziantep, Turkey; Registration ID 146103 (Turkey); SWIFT/BIC ATUBTRIS (Turkey); Telephone No. (90) 2122250500; Telephone No. (90) 3124195101; Telephone No. (90) 3124195102; Telephone No. (90) 3124195103; Telephone No. (90) 3124195104; Telephone No. (90) 3124190883; Telephone No. (90) 3124190884; Telephone No. (90) 2163580800; Telephone No. (90) 2163580801; Telephone No. (90) 2163580802; Telephone No. (90) 2163580803; Telephone No. (90) 2163580805; Telephone No. (90) 2163580806; Telephone No. (90) 3322360716; Telephone No. (90) 3322360718; Telephone No. (90) 3322360719; Telephone No. (90) 3322360791; Telephone No. (90) 3322360792; Telephone No. (90) 3322360793; Telephone No. (90) 3522213933; Telephone No. (90) 3522213934; Telephone No. (90) 3522213935; Telephone No. (90) 3522213936; Telephone No. (90) 3522213980; Telephone No. (90) 3522213981; Telephone No. (90) 3422326200; Telephone No. (90) 3422326201; Telephone No. (90) 3422326202; Telephone No. (90) 3422326203; Telephone No. (90) 3422326204; Telephone No. (90) 3422326205; Fax No. (90) 2122255299; Fax No. (90) 2 [LIBYA2]

2. GENERAL COMPANY FOR CHEMICAL INDUSTRIES (a.k.a. ABU KAMMASH; a.k.a. GCCI), Abu Kammash Chemical Complex, Hadba Al Khadra, P.O. Box 100/411 and 100/071, Zuara, Libya; General Company for Chemical Industries Building, Abu Kammash Area, P.O. Box 411, Al Nuqat Al Khams, Zuwarah 100, Libya; Telephone No. (218) 213615181-5; Telephone No. (218) 213609426; Telephone No. (218) 213609427; Telephone No. (218) 212136081; Telephone No. (218) 213615186; Telephone No. (218) 213615181; Fax No. (218) 213609433; Fax No. (218) 213601712; Fax No. (218) 213615184; Fax No. (218) 213615014; Fax No. (218)213609433; E-mail Address gcci-abukamash@gcci.ly; Website www.gcci.ly [LIBYA2]

3. GENERAL NATIONAL MARITIME TRANSPORT COMPANY (a.k.a. GNMTC), El Shaab Port, next to Passenger Terminal, P.O. Box 80173, Tripoli, Libya; Al Wahda Al Arabiya Building, Gargarish Road, Abou Nawas, P.O. Box 80173, Tripoli, Libya; Telephone No. (218) 214843304; Telephone No. (218) 214843273; Telephone No. (218) 214843310; Telephone No. (218) 214808094; Fax No. (218) 2134843288; Fax No. (218) 214843272; Fax No. (218) 4843305; Fax No. (218) 214808094; E-mail Address info@gnmtc.com; Website www.gnmtc.com [LIBYA2]

4. GHANA LIBYA ARAB HOLDING COMPANY (a.k.a. GHANA LIBYAN ARAB HOLDING COMPANY LIMITED; a.k.a. GLAHCO), 1st Circular Road, Opposite Midini Hotel, Cantonments, Kumasi, Ghana; Plot F32 and 33, 5th Circular Road, East Cantonments, P.O. Box AN7281, Accra, Ghana; Telephone No. (233) 21774962; Telephone No. (233) 21762481; Telephone No. (233) 302774962; Telephone No. (233) 302762454; Telephone No. (233) 244322261; Fax No. (233) 21774839; E-mail Address karmus@glahco.com; E-mail Address glahco@glahco.com [LIBYA2]

5. GLAHCO HOTELS AND TOURISM DEVELOPMENT COMPANY LIMITED (a.k.a. GOLDEN TULIP HOTEL ACCRA), Liberation Road, Opposite Police Church, P.O. Box 16033, Accra, Ghana; Telephone No. (233) 21775360; Telephone No. (233) 21775362; Telephone No. (233) 21775366; Telephone No. (233) 21213161; Telephone No. (233) 202013326; Telephone No. (233) 21775361; E-mail Address Herbert.friese@goldentulipaccra.com; Website www.goldentulipaccra.com [LIBYA2]

6. LIBYAN NORWEGIAN FERTILISER COMPANY (a.k.a. LIFECO), Airport Highway, Sidi Sleem Area, Tripoli, Libya; Plant Libyan Norwegian Fertiliser Company, Marsa el Brega, Libya; Website www.lifeco.ly [LIBYA2]

7. NORTH AFRICA COMMERCIAL BANK S.A.L. (a.k.a. NACB; a.k.a. NORTH AFRICA COMMERCIAL BANK; a.k.a. NORTH AFRICA COMMERCIAL BANK SAL), P. O. Box: 11-9575, Beirut, Lebanon; Justinian St., Aresco Centre, Beirut, Lebanon; Aresco Center, Justinien Street, Kantari Sector, Beirut, Lebanon; Sin El Fil, Mkalles Round About, SAR Bldg, Beirut, Lebanon; Registration ID 30199 (Lebanon) issued 13 Oct 1973; SWIFT/BIC NACBLBBE (Lebanon); Telephone No. (961 1) 759000; Telephone No. (961 1) 485670; Telephone No. (961 1) 485671; Telephone No. (961 1) 485681; Telephone No. (961 1) 485682; Telephone No. (961 1) 485683; Telephone No. (961 1) 742900; Telephone No. (961 1) 495404; Fax No. (961 1) 346322; Fax No. (961 1) 759099; Fax No. (961 1) 751687; Fax No. (961 1) 485681; E-mail Address info@nacb.com.lb; E-mail Address nacb@sodetel.net.lb; Website www.nacb.com.lb [LIBYA2]

8. NORTH AFRICA INTERNATIONAL BANK (a.k.a. NAIB; a.k.a. NAIB BANK; a.k.a. NORTH AFRICA INTERNATIONAL BANK SA), Avenue Kheireddine Pacha, Lotissement Ennasim Montplaisir (Bourjel), 1002, Tunis, Tunisia; Avenue Kheireddine Pacha, Cite Ennasim Montplaisir, 1002, Tunis, Tunisia; PO Box 485, 1080, Tunis Cedex, Tunisia; Bizerte Centre, 7000, Bizerte, Tunisia; Ennasim Mont Plaisir Building, Kheireddine Pacha Street, Taksim Al Nassim, 1002, Tunis, Tunisia; Boulevard 7 Novembre, Route El Kantaoui, 4011, Hammam Sousse, Tunisia; Immeuble Mirage II, Avenue Magida Boulila, Near the Medicine Institute, 3027, Sfax El Jadida, Tunisia; Registration ID B 1101511997 (Tunisia) issued 1 Nov 1984; SWIFT/BIC NOAFTNTT (Tunisia); Telephone No. (216) 71950800; Telephone No. (216) 72422100; Telephone No. (216) 73370370; Fax No. (216) 71950840; Fax No. (216) 71950254; Fax No. (216) 72422533; Fax No. (216) 73370371; E-mail Address naib@naibank.com; Website www.naib.com [LIBYA2]

9. PAK-LIBYA HOLDING COMPANY, Finance and Trade Centre, 5th Floor, Block C, Shahrah-E-Faisal, Karachi 74400, Pakistan; Telephone No. 9221565155662; Telephone No. 92215651648; Telephone No. 92215651556; Telephone No. 92215651557; Telephone No. 92215651558; Telephone No. 92215651559; E-mail Address info@paklibya.com.pk; Website www.paklibya.com.pk [LIBYA2]

Dated: June 21, 2011.
Adam J. Szubin,
Director, Office of Foreign Assets Control.

[FR Doc. 2011-15979 Filed 6-24-11; 8:45 am]

BILLING CODE 4811-AL-P